DEPARTMENT OF THE INTERIOR

National Park Service

[NPS-WASO-NRNHL-DTS#-29677; PPWOCRADI0, PCU00RP14.R50000]

National Register of Historic Places; Notification of Pending Nominations and Related Actions

AGENCY: National Park Service, Interior.

ACTION: Notice.

SUMMARY: The National Park Service is soliciting comments on the significance of properties nominated before January 18, 2020, for listing or related actions in the National Register of Historic Places.

DATES: Comments should be submitted by February 25, 2020.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before January 18, 2020. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

IOWA

Tama County

King Tower Historic District, 1701 East 5th St./Business 30, Tama, SG100004998

MISSOURI

Cole County

Trinity Lutheran Church Historic District, (Rural Church Architecture of Missouri, c. 1819 to c. 1945 MPS), 13007-13013 Route C, Russellville, SG100005004

NEW YORK

Columbia County

Smith, Sanford W. and Maude, House, 4 Grove St., Chatham, SG100004999

SOUTH CAROLINA

Aiken County

Gaston Livery Stable, 1315 Richland Ave. East, Aiken, SG100005001

Charleston County

Engineering-Management Building, 2260 Noisette Blvd., North Charleston, SG100005002

TEXAS

Brown County

Weakley-Watson Building, 100-102 Fisk Ave., Brownwood, SG100005003

VIRGINIA

Caroline County

Old Jail of Caroline County, 119 North Main St., Bowling Green, SG100005008

Mount Gideon, 33295 Mt. Gideon Rd., Hanover vicinity, SG100005012

Cumberland County

Pine Grove Elementary School, (Rosenwald Schools in Virginia MPS), 267 Pinegrove Rd., Cumberland vicinity, MP100005010

Franklin Independent City

Franklin High School Gymnasium and Agricultural & Shop Building, 511 Charles St., Franklin, SG100005009

Petersburg Independent City

Christ and Grace Episcopal Church, 1545 South Sycamore St., Petersburg, SG100005011

Sussex County

Fleetwood, Purnell, House, 202 East Main St., Waverly, SG100005007

WISCONSIN

Washington County

West Bend Theater, 125 North Main St., West Bend, SG100005005

Nomination submitted by Federal Preservation Officer:

The State Historic Preservation Officer reviewed the following nomination and responded to the Federal Preservation Officer within 45 days of receipt of the nomination and supports listing the property in the National Register of Historic Places.

NEW YORK

Albany County

United States Post Office, Court House, and Custom House, 445 Broadway, Albany, SG100005000

Authority: Section 60.13 of 36 CFR part 60.

Dated: January 21, 2020.
Julie H. Ernstein,
Supervisory Archeologist, National Register of Historic Places/National Historic Landmarks Program.

[FR Doc. 2020-02514 Filed 2-7-20; 8:45 am]

BILLING CODE 4312-52-P